DEPARTMENT OF COMMERCE

Foreign-Trade Zones Board

[Order No. 1149]

Grant of Authority for Subzone Status; Tesoro Alaska Company (Oil Refinery), Kenai, AK

Pursuant to its authority under the Foreign-Trade Zones Act of June 18, 1934, as amended (19 U.S.C. 81a-81u), the Foreign-Trade Zones Board (the Board) adopts the following Order:

Whereas, by an Act of Congress approved June 18, 1934, an Act “To provide for the establishment * * * of foreign-trade zones in ports of entry of the United States, to expedite and encourage foreign commerce, and for other purposes,” as amended (19 U.S.C. 81a-81u) (the Act), the Foreign-Trade Zones Board (the Board) is authorized to grant to qualified corporations the privilege of establishing foreign-trade zones in or adjacent to U.S. Customs ports of entry;

Whereas, the Board's regulations (15 CFR Part 400) provide for the establishment of special-purpose subzones when existing zone facilities cannot serve the specific use involved;

Whereas, an application from the Municipality of Anchorage, Alaska, grantee of FTZ 160, for authority to establish special-purpose subzone status at the oil refinery complex of Tesoro Alaska Company in Kenai, Alaska, was filed by the Board on May 5, 2000, and notice inviting public comment was given in the Federal Register (FTZ Docket 20-2000, 65 FR 31139, 5/16/00); and,

Whereas, the Board adopts the findings and recommendations of the examiner's report, and finds that the requirements of the FTZ Act and Board's regulations would be satisfied, and that approval of the application would be in the public interest if approval is subject to the conditions listed below;

Now, Therefore, the Board hereby authorizes the establishment of a subzone (Subzone 160A) at the oil refinery complex of Tesoro Alaska Company, in Kenai, Alaska, at the location described in the application, subject to the FTZ Act and the Board's regulations, including § 400.28, and subject to the following conditions:

1.Foreign status (19 CFR 146.41, 146.42) products consumed as fuel for the refinery shall be subject to the applicable duty rate.

2. Privileged foreign status (19 CFR 146.41) shall be elected on all foreign merchandise admitted to the subzone, except that non-privileged foreign (NPF) status (19 CFR 146.42) may be elected on refinery inputs covered under HTSUS Subheadings # 2709.00.1000— # 2710.00.1050, # 2710.00.2500 and # 2710.00.4510 which are used in the production of:

—Petrochemical feedstocks and refinery by-products (examiners report, Appendix “C”);

—Products for export;

—And, products eligible for entry under HTSUS # 9808.00.30 and #9808.00.40 (U.S. Government purchases).

Signed at Washington, DC, this 15th day of March 2001.
Timothy J. Hauser,
Acting Under Secretary for International Trade, Alternate Chairman, Foreign-Trade Zones Board.

[FR Doc. 01-7556 Filed 3-26-01; 8:45 am]

BILLING CODE 3510-DS-P